DEPARTMENT OF COMMERCE

Foreign-Trade Zones Board

[B-37-2023]

Foreign-Trade Zone (FTZ) 218, Notification of Proposed Production Activity; Derecktor Fort Pierce, LLC; (Refurbished Water Vessels and Hulls); Fort Pierce, Florida

Derecktor Fort Pierce, LLC submitted a notification of proposed production activity to the FTZ Board (the Board) for its facility in Fort Pierce, Florida, within Subzone 218A. The notification conforming to the requirements of the Board's regulations (15 CFR 400.22) was received on June 6, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: sailboats; boat tenders; ferries; motor yachts, pleasure vessels, and sports vessels exceeding 7.5 meters; research vessels; and, aluminum hulls and hull modules (duty rate ranges from duty-free to 1.5%).

The proposed foreign-status materials and components include: O-rings and adapters; rubber bearings with brass shells; carbon poles and fittings; hydraulic components (filters; linear acting power units; power units; pumps); water filtration systems; windlasses; propeller shafts; bearing seals; digital video recorders; marine propulsion engines (diesel; spark-ignition reciprocating or rotary internal combustion piston); marine propulsion engine components (engine mounts; seal kits; thermostats; engine controls; electrical control boxes); pumps (lubricating oil; fresh water system); natural stone tiles with height and width less than seven centimeters (cm); marble, granite, or onyx, for floors, countertops, or walls; quartz slabs for countertops; China tableware; window glass (tempered; laminated); lead crystal glassware and barware; silverware sets; weathertight and watertight marine doors (iron; steel; aluminum); anchor chain; anchors and grapnels (iron; steel); mooring bollards; aluminum walkways; engine mounts for marine propulsion engines with spark-ignition internal combustion pistons; ventilation fans; ventilation hoods, not exceeding 120 cm width; blowers; refrigerating units; HVAC equipment chassis and coils; fire dampers; water mist extinguisher systems; winches and capstans; cranes; propellers and blades; DC electric motors of an output exceeding 750 watts but not exceeding 375 kilowatts; AC generators; transformers (having a power handling capacity not exceeding 650 kilo volt-amperes (kVA); having a power handling capacity exceeding 1 kVA); rectifiers; motor boat tenders; aluminum yacht hull modules and super structures; aluminum hulls and hull modules; wood furniture; light-emitting diode (LED) chandeliers and electric ceiling or wall lighting fittings (brass; non-base metal; base metal other than brass); chandeliers and electric ceiling or wall lighting fittings (brass; non-base metal); chandeliers and electric ceiling or wall lighting fittings, not designed exclusively for LED, made of base metal other than brass; LED search lights and spotlights (brass; non-base metal; base metal other than brass); and, search lights and spotlights not designed exclusively for LED (duty rate ranges from duty-free to 7.6%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is July 24, 2023.

A copy of the notification will be available for public inspection in the “Online FTZ Information System” section of the Board's website.

For further information, contact Juanita Chen at juanita.chen@trade.gov.

Dated: June 7, 2023.
Elizabeth Whiteman,
Executive Secretary.

[FR Doc. 2023-12597 Filed 6-12-23; 8:45 am]

BILLING CODE 3510-DS-P